DEPARTMENT OF HOUSING AND URBAN DEVELOPMENT

[Docket No. FR-5194-N-11]

Notice of Proposed Information Collection: Extension of Comment Request; Management Review for Public Housing Projects

AGENCY: Office of the Assistant Secretary for Public and Indian Housing, HUD.

ACTION: Notice of proposed information collection, extension.

SUMMARY: This notice is being republished to extend the comment period until August 31, 2008. This notice was previously published on February 8, 2008 and republished on April 1, 2008 to extend the comment period until June 30, 2008. The proposed information collection requirement described below will be submitted to the Office of Management and Budget (OMB) for review, as required by the Paperwork Reduction Act. The Department is soliciting public comments on the subject proposal.

DATES: Comments Due Date: September 30, 2008.

ADDRESSES: Interested persons are invited to submit comments regarding this proposal. Comments should refer to the proposal by name/or OMB Control number and should be sent to: Lillian L. Deitzer, Department Reports Management Officer, ODAM, Department of Housing and Urban Development, 451 7th Street, SW., Room 4116, Washington, DC 20410-5000; telephone: 202-708-2374, (this is not a toll-free number) or e-mail Ms. Deitzer at Lillian_I._Deitzer@HUD.gov for a copy of the proposed form and other available information.

FOR FURTHER INFORMATION CONTACT: Mary Schulhof, Office of Policy, Programs and Legislative Initiatives, PIH, Department of Housing and Urban Development, 451 Seventh Street, SW., Washington, DC 20410; telephone: 202-708-0713, (this is not a toll-free number).

SUPPLEMENTARY INFORMATION: On February 8, 2008 (73 FR 7575), this notice informed the public that the U.S. Department of Housing and Urban Development (HUD) would be soliciting comments from the public on the subject proposal. On April 1, 2008, this notice was republished to extend the comment period until June 30, 2008. The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

This Notice also lists the following information:

Title of Proposal: Management Review of Public Housing Projects.

OMB Control Number: 2577-Pending.

Description of the need for the information and proposed use: On September 19, 2005 (70 FR 54983), HUD published a final rule amending the regulations of the Public Housing Operating Fund Program at 24 CFR part 990, which was developed through negotiated rulemaking. Part 990 provides a new formula for distributing operating subsidy to public housing agencies (PHAs) and establishes requirements for PHAs to convert to asset management.

Subpart H of the part 990 regulations (§§ 990.255 to 990.290) establishes the requirements regarding asset management. Under § 990.260(a), PHAs that own and operate 250 or more dwelling rental units must operate using an asset management model consistent with the subpart H regulations. However, for the current fiscal year, that regulation is superseded by Section 225 of Title II of Division K of the Consolidated Appropriations Act, 2008, Pub. L. 110-161 (approved December 26, 2007). Under that law, PHAs that own or operate 400 or fewer units may elect to transition to asset management, but they are not required to do so.

To support the transition to asset management and align HUD oversight with asset management, a new management review format is required to review PHAs on a project level, rather than PHA-wide. The forms are modeled after the asset management model consistent with the management norms in the broader multifamily industry.

Agency form numbers: Forms HUD-5834, HUD-5834-A, and HUD-5834-B.

Members of affected public: Public housing agencies.

Estimation of the total number of hours needed to prepare the information collection including number of respondents: For form HUD-5834, Management Review of Public Housing Projects, there are 3,282 respondents annually with one response per respondent. Average time per response is .95 hours and the total burden hours are 3,118 hours. For form HUD-5834-A, Tenant File Review, there are 821 respondents annually with one response per respondent. Average time per response is .50 hours and the total burden hours are 410.50 hours. For form HUD-5834-B, Upfront Income Verification Review, there are 821 respondents annually with one response per respondent. Average time per response is .50 hours and the total burden hours are 410.50 hours.

Status of the proposed information collection: New collection.

Authority: Section 3506 of the Paperwork Reduction Act of 1995, 44 U.S.C. Chapter 35, as amended.

Dated: June 26, 2008.
Bessy Kong,
Deputy Assistant Secretary for Policy, Programs and Legislative Initiatives.

[FR Doc. E8-15508 Filed 7-8-08; 8:45 am]

BILLING CODE 4210-67-P